NATIONAL ARCHIVES AND RECORDS ADMINISTRATION

Nixon Presidential Historical Materials: Opening of Materials

AGENCY: National Archives and Records Administration.

ACTION: Notice of opening of additional materials.

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR part 1275), the Agency has identified, inventoried, and prepared for public access the Vietnam Task Force study, United States -Vietnam Relations 1945-1967, informally known as “the Pentagon Papers.”

DATES: The Richard Nixon Presidential Library and Museum intends to make the materials described in this notice available to the public on Monday, June 13, 2011, at the Richard Nixon Presidential Library and Museum's primary location in Yorba Linda, CA, beginning at 9 a.m. (PDT). In accordance with 36 CFR 1275.44, any person who believes it necessary to file a claim of legal right or privilege concerning access to these materials must notify the Archivist of the United States in writing of the claimed right, privilege, or defense within 30 days of the publication of this notice. These claims should be sent to the Office of the Archivist of the United States, National Archives at College Park, 8601 Adelphi Road, College Park, MD 20740-6001.

FOR FURTHER INFORMATION CONTACT: Timothy Naftali, Director, Richard Nixon Presidential Library and Museum, 714-983-9120 .

SUPPLEMENTARY INFORMATION: The following materials will be made available in accordance with this notice:

Previously restricted textual materials. Volume: 3.7 cubic feet. A number of textual materials previously withheld from public access have been reviewed for release and/or declassified under the systematic declassification review provisions and under the mandatory review provisions of Executive Order 13526, or in accordance with 36 CFR 1275.56 (Public Access regulations). The materials are from National Security Council (NSC Files), Presidential Acquisition Files, Pentagon Papers.

Dated: May 4, 2011.
David Ferriero,
Archivist of the United States.

[FR Doc. 2011-11533 Filed 5-9-11; 8:45 am]

BILLING CODE 7515-01-P